DEPARTMENT OF TRANSPORTATION

Federal Aviation Administration

14 CFR Part 71

[Docket No. FAA-2023-1203; Airspace Docket No. 23-AGL-12]

RIN 2120-AA66

Amendment of VOR Federal Airway V-233 and Revocation of VOR Federal Airway V-320 Due to the Decommissioning of the Mount Pleasant, MI, VOR

AGENCY: Federal Aviation Administration (FAA) DOT.

ACTION: Notice of proposed rulemaking (NPRM); withdrawal.

SUMMARY: The FAA is withdrawing the NPRM published in the Federal Register on May 30, 2023, proposing to amend Very High Frequency Omnidirectional Range (VOR) Federal Airway V-233 and revoke VOR Federal Airway V-320. The FAA proposed this action due to the planned decommissioning of the VOR portion of the Mount Pleasant, MI (MOP), VOR/Distance Measuring Equipment (VOR/DME) navigational aid in support of the FAA's VOR Minimum Operational Network (MON) Program.

DATES: Effective as of 0901 UTC, March 31, 2025, the proposed rule published May 30, 2023 (88 FR 34457), is withdrawn.

FOR FURTHER INFORMATION CONTACT: Colby Abbott, Rules and Regulations Group, Policy Directorate, Federal Aviation Administration, 600 Independence Avenue SW, Washington, DC 20597; telephone: (202) 267-8783.

SUPPLEMENTARY INFORMATION:

History

The FAA published a NPRM in the Federal Register for Docket No. FAA-2023-1203 (88 FR 34457; May 30, 2023). The NPRM proposed to amend VOR Federal Airway V-233 and revoke VOR Federal Airway V-320 due to the planned decommissioning of the Mount Pleasant, MI, VOR. Interested parties were invited to participate in this rulemaking effort by submitting written comments on the proposal. No comments were received.

Subsequent to the NPRM, a separate rulemaking action amended VOR Federal Airway V-233 making its amendment in this action no longer necessary. Additionally, the Mount Pleasant VOR decommissioning has been delayed two times from the originally targeted March 21, 2024, effective date and is being delayed a third time to July 2026 to address VOR navigational signal coverage issues at 5,000 feet above ground level (AGL) in an area near Mount Pleasant, MI.

FAA's Conclusions

The FAA has reviewed the Mount Pleasant VOR decommissioning project and determined further flight inspection evaluations of the Mount Pleasant VOR and other nearby VORs must be accomplished to address the VOR navigational signal coverage issue in the Mount Pleasant, MI, area. The flight inspection evaluations must be completed before a final determination regarding the retention or decommissioning of the Mount Pleasant VOR may be made. Therefore, in light of the project delays and required flight inspection evaluations, the NPRM is withdrawn.

The Withdrawal

Accordingly, pursuant to the authority delegated to me, the NPRM published in the Federal Register on May 30, 2023 (88 FR 34457), FR Doc. 2023-11375, is hereby withdrawn.

Issued in Washington, DC, on March 24, 2025.
Brian Eric Konie,
Manager (A), Rules and Regulations Group.

[FR Doc. 2025-05287 Filed 3-28-25; 8:45 am]

BILLING CODE 4910-13-P